DEPARTMENT OF ENERGY

Federal Energy Regulatory Commission

18 CFR Part 35

[Docket No. RM01-8-000]

Revised Public Utility Filing Requirements

Issued May 31, 2002.

AGENCY: Federal Energy Regulatory Commission.

ACTION: Order Issuing Interim Instruction Manual for Electronic Filing of Electric Quarterly Reports.

SUMMARY: In this order, the Federal Energy Regulatory Commission (the Commission) issues an instruction manual for public utilities to use to file their Electric Quarterly Reports on or before July 31, 2002 and October 31, 2002.

FOR FURTHER INFORMATION CONTACT: H. Keith Pierce (Technical Information), Office of Markets, Tariffs, and Rates, Federal Energy Regulatory Commission, 888 First Street, NE, Washington, DC 20426. (202) 208-0525.

Barbara D. Bourque (Information Technology Information), Office of Markets, Tariffs, and Rates, Federal Energy Regulatory Commission, 888 First Street, NE., Washington, DC 20426. (202) 208-2338.

Gary D. Cohen (Legal Information), Office of the General Counsel, Federal Energy Regulatory Commission, 888 First Street, NE., Washington, DC 20426. (202) 208-0321.

SUPPLEMENTARY INFORMATION:

Before Commissioners: Pat Wood, III, Chairman; William L. Massey, Linda Breathitt, And Nora Mead Brownell.

Order Issuing Instruction Manual for Public Utilities To Use To File Their Electric Quarterly Reports

Issued May 31, 2002.

In Revised Public Utility Filing Requirements, Final Rule, Order No. 2001, 67 FR 31043, FERC Stats. & Regs. ¶ 31,127 (April 25, 2002), the Commission stated that, in the near future, it would issue an instruction manual to govern the filing of the Electric Quarterly Reports covering the second and third calendar quarters of 2002. In this order, the Commission does so.

Order No. 2001 also explained that, for the reports public utilities file on or before July 31, 2002 and October 31, 2002, respondents will use the FERC electronic filing system (available on the FERC Internet site, www.ferc.gov) using the link labeled e-Filing. “Contract data” for agreements entered into and under which service was first rendered between April 1, 2002 and June 30, 2002 will be reported in the filing due by July 31, 2002, and will be reported thereafter until the contracts expire.¹ Contract data for agreements entered into and under which service was first rendered between July 1, 2002 and September 30, 2002 will be reported in the filing due by October 31, 2002, and will be reported thereafter until the contracts expire. Electric Quarterly Reports filed by July 31, 2002 will include “transaction data” for all power sales made between April 1, 2002 and June 30, 2002. Electric Quarterly Reports filed by October 31, 2002 will include transaction data for all power sales made between July 1, 2002 and September 30, 2002.² The public will be able to view and download filed documents from the FERC Internet site using either the RIMS or FERRIS document management systems.³

¹ Order No. 2001, Attachment C, specifies the contract data elements to be included in Electric Quarterly Reports.

² Order No. 2001, Attachment C, also specifies the Transaction data elements to be included in Electric Quarterly Reports.

³ The RIMS option may be superseded by FERRIS before July 31, 2002.

When making the first two Electric Quarterly Reports, respondents must go to the FERC Web site (www.ferc.gov) select “e-Filing,” and log in.⁴ At the “Filing Type Selection” page, filers must select the option for “Electric Quarterly Report” from the file types listed under “Other.” Respondents will, at the “Enter Docket Number” page, specify Docket No. ER02-2001-000. Respondents will file a single document in either Microsoft Excel or ASCII Comma Separated Values (CSV) format exactly as detailed in the attached “Instruction Manual for Electronic Filing of Electric Quarterly Reports for the Reporting Periods Ending on June 30, 2002 and September 30, 2002.” Respondents providing large amounts of data may wish to file separately for each corporate entity to avoid the 5 megabyte e-filing size constraint. Concurrent with the issuance of this order, the Commission will post a sample Microsoft Excel template file on the FERC Internet site that may be used in preparing the filings due on or before July 31, 2002 and October 31, 2002. Filed documents must not contain computer formulas or macros.

⁴ Filers who have never made an electronic filing with FERC must register on-line at the e-filing page.

For reports filed after October 31, 2002, this interim filing format will be replaced by an automated Electric Quarterly Report filing system now under development. Utilities wishing to participate in beta testing should e-mail Barbara Bourque at Barbara.Bourque@ferc.gov. The final format will be implemented in a subsequent order. The final format will incorporate the same data sets adopted in Order No. 2001.

The Commission orders:

The attached “Instruction Manual for Electronic Filing of Electric Quarterly Reports for the Reporting Periods Ending on June 30, 2002 and September 30, 2002” is hereby adopted for use by public utilities in preparing their Electric Quarterly Reports to be filed on or before July 31, 2002 and October 31, 2002, as discussed in the body of this order.

By the Commission.
Magalie R. Salas,
Secretary.

BILLING CODE 6717-01-P

BILLING CODE 6717-01-C

I. Purpose

In Order No. 2001,¹ the Commission revised its regulations to add 18 CFR 35.10b,² which requires each public utility to file electronically with the Commission an Electric Quarterly Report each calendar quarter, in accordance with the schedule prescribed in the regulation.³ As provided in Order No. 2001, all of a public utility's transmission services, cost-based power sales, market-based power sales and other services will be covered in its Electric Quarterly Reports. Electric Quarterly Reports will summarize the pertinent terms and conditions of a public utility's current contractual agreements and provide specified data (e.g., price, quantity, parties, etc.) about the power sale transactions the public utility made during the reporting period.

¹ Revised Public Utility Filing Requirements, Final Rule, Order No. 2001, 67 FR 31043, FERC Stats. & Regs. ¶ 31,127 (2002).

² Under the authority of the Federal Power Act, 16 U.S.C. 791a, et seq.

³ 18 CFR 35.10b prescribes the following schedule for the filing of Electric Quarterly Reports: for the period from January 1st through March 31st of each year, each public utility must file its Electric Quarterly Report by the following April 30th; for the period from April 1st through June 30th of each yer, each public utility must file its Electric Quarterly Report by the following July 31st; for the period July 1st through September 30th of each year, each public utility must file its Electric Quarterly Report by the following October 31st; and, for the period October 1st through December 31st of each year, each public utility must file its Electric Quarterly Report by the following January 31st.

Order No. 2001 provides that the first two Electric Quarterly Reports (i.e., those to be filed by July 31, 2002 and October 31, 2002) will be governed by interim reporting requirements. Thus, these instructions apply to these first two reporting periods only. The Commission expects to complete its development of an automated Electric Quarterly Report filing system in time for use in Electric Quarterly Reports filed after October 31, 2002.

The Electric Quarterly Report will include two groups of data, contracts and power sale transactions:

• Contract data about each agreement (including, but not limited to, electric power sales agreements and other services under 18 CFR part 35, such as transmission agreements and interconnection agreements) not previously filed with the Commission under which service was first rendered between April 1, 2002 and June 30, 2002 will be reported in the filing due by July 31, 2002, and thereafter until the contracts expire. Contract data about each agreement not previously filed with the Commission under which service was first rendered between July 1, 2002 and September 30, 2002 will be reported in the filing due by October 31, 2002, and thereafter until the contracts expire.⁴

⁴ The final system will include all contracts under Part 35 purusant to electric service.

• Pertinent data about each wholesale power sale transaction made by the public utility during the respective reporting periods will be included in the filings.

A public utility may also report contract data for its other effective contracts.

II. Who Must Submit

Each public utility as defined in section 201(e) of the Federal Power Act, 16 U.S.C. 824 (e) and subject to Part 35 of the Commission's regulations must comply with the requirement to file Electric Quarterly Reports.

III. What To Submit

The Electric Quarterly Report is an electronic file that is classified as a “qualified document.” As a qualified document, no paper copy version of the filing is required. The internal structure of the file is described below for files submitted in an ASCII Comma Separated Values (CSV) format. Additionally, a template is provided at www.ferc.gov for files submitted using Microsoft Excel.

As explained in Order No. 2001,⁵ the information required to be reported in Electric Quarterly Reports must be made public to achieve the purposes for which it is collected.

⁵ Order No. 2001 at n.81.

There is no paper format required for data reported in Electric Quarterly Reports. If a respondent submits a revised filing, the respondent must restate the original file with all additions, deletions, revisions, and corrections incorporated.

IV. When To Submit

As explained in Order No. 2001, a public utility must submit its Electric Quarterly Report for the period April 1, 2002 through June 30, 2002 by July 31, 2002. In addition, a public utility must submit its Electric Quarterly Report for the period July 1, 2002 through September 30, 2002 by October 31, 2002. The filing dates for subsequent filings will be governed by 18 CFR 35.10b.

V. Where To Submit Electric Quarterly Report Filings

Submit the electronic filing to www.ferc.gov using the e-filing link.

VI. General Instructions

The Commission defined the data elements to be used in Electric Quarterly Reports in Order No. 2001, Attachment C. These data elements are applicable to the Electric Quarterly Reports to be filed by July 31, 2002 and October 31, 2002.

The information required for Electric Quarterly Reports to be filed by July 31, 2002 and October 31, 2002 must be recorded in either ASCII Comma Separated Values (CSV) or Microsoft Excel format. CSV formatted data consists of ASCII text separated by commas. Text containing commas must be enclosed within quotes. Numeric values shall not contain any commas and do not require leading zeroes. Records are separated by a carriage return plus line feed. If a data item is not applicable, the data item must be omitted, but the associated comma character for that item must be recorded. An example CSV file that adheres to the prescribed electronic filing formats is provided as the Appendix to this manual.

All information required to be filed should be recorded in one file. The file name must not be longer than 25 characters, must not contain spaces or ampersands, and must be appended with “.csv” (for CSV format files) or “.xls” or “.xlb” (for Microsoft Excel files).

Instructions for filing using the FERC e-Filing system are publicly posted at www.ferc.gov at the e-Filing link and are titled “User Guide.” At the FERC e-Filing “Enter Docket Number” page, respondents must enter ER02-2001-000 and click the “Add Docket to List” link. Comments may be filed via the internet in WordPerfect, MS Word, Portable Document Format, or ASCII format. To file the document, access the Commission's Web site at www.ferc.gov and click on “e-Filing,” and then follow the instructions for each screen. First time users will have to establish a user name and password. The Commission will send an automatic acknowledgment to the sender's e-mail address upon receipt of comments.

Electric Quarterly Reports documents filed with the FERC e-Filing system will be indexed in the FERC RIMS or FERRIS system with the title “Electric Quarterly Report of <filer's organization name> under ER02-2001-000.” If it is necessary to file a revised report, respondents shall file the revised document using the FERC e-Filing system, changing the filing title at the “Electric Quarterly Report” page from “Electric Quarterly Report of <filer's organization name> under ER02-2001-000” to “Electric Quarterly Report of <filer's organization name> under ER02-2001-000 Revision <n>' where <n> is a sequential numeric or character identifier such as 1, 2, 3 or A, B, C.

User assistance for electronic filing is available at 202-208-0258 or by e-mail to efiling@ferc.gov. Comments should not be submitted to the e-mail address. All comments will be placed in the Commission's public files and will be available for inspection in the Commission's Public Reference Room at 888 First Street, NE., Washington DC 20426, during regular business hours. Additionally, all comments may be viewed, printed, or downloaded remotely via the Internet through FERC's home page using the RIMS link. User assistance for RIMS is available at 202-208-2222, or by e-mail to RimsMaster@ferc.gov.

VII. Data Specifications

The information below is intended to clarify the data elements listed in the sample CSV format attached and the sample Excel spreadsheet template posted on the FERC Web site, www.ferc.gov.

The first field listed in the Header Information is “FA” on the first line, “FR” on the second line, and “FS1” on the third line.

• FA denotes Filing Agent, and the data entered on that line should be applicable to the filing agent;

• FR denotes Filing Respondent, and the data entered on that line should be applicable to the respondent; and

• FS denotes Filing Seller and the number immediately following the “FS” will differentiate multiple sellers. Filers should begin at FS1 and increment the numbers (i.e., FS2, FS3, etc.) for each additional seller they are listing.

Filing agent, respondent, and seller may be identical. Contact name and address information is mandatory for the respondent, but may also be entered for the agent and/or seller.

Similarly, the first field listed in the Contract Information is the Contract Identifier (“C1” on the first line, and incremented for other contracts listed). Each contract product must be listed separately on its own line with the unique product specifications detailed. All products sold under a contract must have the same Contract Identifier as the rest of the products sold under that contract.

The same format is used to distinguish unique transactions. Since a transaction can be composed of numerous transaction products (power, ancillary services, etc.), each transaction is given a unique Transaction Identifier (TR1, TR2, TR3, etc.). Each transaction product should be listed separately on its own line with the unique specifications detailed. All transaction products sold under a single transaction should have the same Transaction Identifier as the rest of the transaction components.

To identify the respondent, seller and customer, use of the unique Data Universal Numbering System (D-U-N-S®) Number assigned by the Dunn & Bradstreet Corporation is a mandatory field. The DUNS number is optional for identifying the filing agent.

Numerous fields are identified as mandatory fields in the attached format. If a data element is not pertinent to a contract or transaction, filers should enter N/A in the field. Additionally, if there is a list of restricted values, to the greatest extent possible, filers should enter one of the values listed. Restricted values are listed on the attached CSV format template in the Appendix. In the restricted values lists, the term {registered} is used. This term indicates that the Commission expects additional values to be entered into this category. When the full system becomes available, entries will be limited to those values that are listed as being available for that field. If filers wish to include other values, they will need to register them as provided for in Order No. 2001. In the interim filers are requested to list the suggested values in a document and file the document as a Comment in Docket ER02-2001-000 via the Internet; this will help staff develop a comprehensive list for the ultimate system. Comments may be filed via the internet in WordPerfect, MS Word, Portable Document Format, or ASCII format.

All rate fields (rate, rate minimum, and rate maximum) must be reported to a minimum of two decimal places, and a maximum of four decimal places. Total transmission charge and total transaction charge must be reported to two decimal places. The units field on the transaction report must define the pricing quantity units for the transaction.

BILLING CODE 6717-01-P

BILLING CODE 6717-01-P

Legend

*—in the Data Type column indicates a value must be supplied;

*D—in the Data Type column indicates a value must be supplied for all records (rows) reported except records (rows) reporting the agent submitting the filing (FA);

*C—in the Data Type column indicates a value must be supplied for the first Contract record for a given contract;

*T—in the Data Type column indicates a value must be supplied for the first Transaction record for a given transaction;

{registered} in “Format or Acceptable Values” in a list of valid values means a filer may supply a value not included in the field description (FERC will subsequently consider including the value in the list ). The following is the current list for the product name field:

Cost-Based Power Sales:

Cost-Based Power/Capacity

Economy Power/Capacity

Emergency Energy/Capacity

General Purpose Energy

Unit Power Sale

Exchange

Non-Displacement

Displacement

Peaking

Sale with exchange

Supplemental

Capacity

Energy

Back-up Power

System Black Start Capability

Energy furnished without charge

Fuel Replacement Energy

Interchange Power

SC—Schedule System Control & Dispatch

RV—Reactive Supply & Voltage Control

RF—Regulation & Frequency Response

EI—Energy Imbalance

SP—Spinning Reserve

SU—Supplemental Reserve

DT—Dynamic Transfer

Market-Based Power Sales:

Load Following

Marginal Peaking

Indexed Peaking

Capacity

Energy

SC—Schedule System Control & Dispatch

RV—Reactive Supply & Voltage Control

RF—Regulation & Frequency Response

EI—Energy Imbalance

SP—Spinning Reserve

SU—Supplemental Reserve

DT—Dynamic Transfer

Transmission:

Point-to-Point

Network

Capacity

Installed Capacity

SC—Schedule System Control & Dispatch

RV—Reactive Supply & Voltage Control

RF—Regulation & Frequency Response

EI—Energy Imbalance

SP—Spinning Reserve

SU—Supplemental Reserve

DT—Dynamic Transfer

Real Power Transmission Tx Loss

System Black Start Capability

Must Run

Specialized affiliate transactions

System Impact and/or Facilities Study Charge(s)

Direct Assignment Facilities Charge

Interconnection Agreement

Standards of Conduct

Network Operating Agreement

Services—Other:

Return in Kind Transactions Between Control Areas

System Operating Agreements

Reliability Agreement

Transmission Owners Agreement.

[FR Doc. 02-14282 Filed 6-6-02; 8:45 am]

BILLING CODE 6717-01-P